DEPARTMENT OF AGRICULTURE

Submission for OMB Review; Comment Request

August 19, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806; and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Foreign Agricultural Service

Title: CCC's Export Enhancement Program (EEP) and CCC's Dairy Export Incentive Program (DEIP).

OMB Control Number: 0551-0028.

Summary of Collection: The Foreign Agricultural Service (FAS) collects information from U.S. exporters in order to determine the exporters' eligibility for the Export Enhancement Program (EEP) and the Dairy Export Incentive Program (DEIP). Program applicants can fax information in or applicants may register over the Internet.

Need and of the Information: FAS will use the information collected from U.S. exporters to determine whether an exporter has the experience necessary to perform under the proposed agreements. Other information is collected to determine compliance during the period of the agreement and to ensure that compensation in the appropriate amount is made. Without the application and related information, FAS would be unable to properly qualify U.S. exporters for EEP and DEIP.

Description of Respondents: Business or other for-profit.

Number of Respondents: 95.

Frequency of Responses: Recordkeeping; Reporting: On occasion.

Total Burden Hours: 1,803.

Farm Service Agency

Title: Power of Attorney.

OMB Control Number: 0560-0190.

Summary of Collection: Individuals or authorized representatives of entities wanting to appoint another to act as their attorney must complete FSA-211, “Power of Attorney” form. The FSA-211 serves as evidence that the grantor has appointed another to act on their behalf for certain Farm Service Agency (FSA), Commodity Credit Corporation (CCC), and Risk Management Agency (RMA) programs and related actions giving the appointee legal authority to enter into binding agreements on the grantor's behalf.

Need and use of the Information: FSA will collect information to verify an individual's authority to sign and act or another in the event of errors or fraud that requires legal remedies. The information collected on the FSA-211 is limited to the grantor's name, signature, and identification number, the grantee's name, address, and the applicable FSA, CCC, and RMA programs. Failure to collect and maintain the data collected on the form will limit or eliminate USDA's ability to accept an individual's signature on behalf of another individual or entity.

Description of Respondents: Farms; Individuals or households.

Number of Respondents: 519,653.

Frequency of Responses: Reporting: Other (Once).

Total Burden Hours: 129,913.

Forest Service

Title: Forest Industries Data Collection System.

OMB Control Number: 0596-0010.

Summary of Collection: The Forest and Range Renewable Resources Planning Act of 1974 and the Forest and Rangeland Renewable Resources Research Act of 1978 require the Forest Service (FS) to evaluate trends in the use of logs and wood chips, to forecast anticipated levels of logs and wood chips, and to analyze changes in the harvest of the resources. Forest product and other wood-using industries are important to state, regional, and national economies. In most southern states, the value of rounded timber products is ranked either first or second in relation to other major agricultural crops. The importance and value of the timber products industry is significant in other regions of the United States as well.

Need and use of the information: FS will collect information using questionnaires to monitor the types, species, volumes, sources, and prices of the timber products harvested throughout the Nation. The data will be used to develop specific economic development plans for new forest-related industries and to assist existing industries in identifying raw material problems and opportunities. If the information were not collected, data would not be available for sub-state, state, regional, and national policy makers and program developers to make decisions related to the forestland on a scientific basis.

Description of Respondents: Business or other for-profit; Not-for-profit institutions.

Number of Respondents: 2,110.

Frequency of Responses: Reporting: On occasion; Annually.

Total Burden Hours: 1,696.

Forest Service

Title: Bid For Advertised Tibmer

OMB Control Number: 0596-0066

Summary of Collection: Individuals, large and small businesses, and corporations who wish to purchase timber or forest products from the National Forest must enter into a timber sale contract or forest product contract with the Forest Service (FS). Information must be collected by FS in order to ensure that: National Forest System timber is sold at not less than appraised value; bidders meet specific criteria when submitting a bid; and anti-trust violations do not occur during the bidding process. Several statutes, regulations, and policies impose requirements on the Government and purchasers in the bidding process. The FS will collect information using several forms.

Need and Use of the Information: FS will collect information to determine bid responsiveness. The sale officer will ensure: the bidder has signed the bid form; provided a tax identification number; completed the unit rate, weighted average, or total sale value bid; entered the bid guarantee amount, type, and ensure the bid guarantee is enclosed with the bid, the bidder has provided the required information concerning Small Business Administration size and Equal Opportunity compliance on previous sales. The Timber Sale Contracting Officers will use the information to complete the contract prior to award to the highest bidder. Failure to include the required information may result in the bid declared non-responsive or the Contracting Officer may be unable to make an affirmative finding of purchaser responsibility and not able to award the contract.

Description of Respondents: Business or other for-profit; Individuals or households.

Number of Respondents: 5,500.

Frequency of Responses: Reporting; On occasion.

Total Burden Hours: 38,672.

Rural Utilities Service

Title: State Telecommunications Modernization Plan.

OMB Control Number: 0572-0104.

Summary of Collection: The Rural Electrification Loan Restructuring Act (RELRA, Pub. L. 103-129), November 1, 1993, amended the Rural Electrification Act of 1936, 7 U.S.C. 901 et seq. (the RE Act). RELRA requires that a State Telecommunications Modernization Plan (Modernization Plan or Plan), meet all the statutory requirements of RELRA (part 1751, Subpart B). The plan at a minimum must provide for: (1) The elimination of party line service; (2) the availability of telecommunications services for improved business, educational, and medical services; (3) must encourage computer networks and information highways for subscribers in rural areas; (4) subscribers in rural areas to receive through telephone lines; (a) conference calling; (b) video images; and (c) data at a rate of 1 million bits of information per second; and the proper routing of information to subscribers.

Need and Use of the Information: The Rural Utilities Service (RUS) telecommunications program staff will review and approve Modernization Plans, if they comply with the requirements of the regulation. If the proposed Modernization Plan is approved, RUS will notify the developer of the approval. If not, RUS will make specific written comments and suggestion for modifying the proposed Modernization Plan so that it will comply with the requirements of the regulation. If the information is not collected, RUS' authority to make loans under the Rural Electrification Act will be restricted.

Description of Respondents: Business or other for-profit; Not-for-profit institutions.

Number of Respondents: 1.

Frequency of Responses: Reporting: On occasion.

Total Burden Hours: 350.

Rural Housing Service

Title: USDA Rural Housing Service—Centralized Servicing Center Loan Servicing Satisfaction Survey.

OMB Control Number: 0575-NEW.

Summary of Collection: The Rural Housing Service (RHS) provides insured loans to low and moderate-income applicants located in rural geographic areas to assist them in obtaining decent, sanitary and safe dwellings. RHS Centralized Servicing Center (CSC) has been in operation since October 1996. The CSC was established to achieve a high level of customer service and operating efficiency that provides its borrowers with convenient access to their loan account information. RHS has developed a survey to measure the results and overall effectiveness of customer services provided.

Need and Use of the Information: RHS will use the outcome of the Customer Satisfaction Survey to determine the general satisfaction level among its customers throughout the nation, highlight areas that need improvement and provide a benchmark for future surveys and improvement in customer service. The survey is administered as part of CSC's on going service quality improvement program.

Description of Respondents: Business or other for profit: Individual or households; Farms; Not-for-profit institutions; State, local, or Tribal government.

Number of Respondents: 23,000.

Frequency of Responses: Reporting: On occasion.

Total Burden Hours: 3,680.

Rural Utilities Service

Title: 7 CFR Part 1786, Prepayment of RUS Guaranteed and Insured Loans to Electric and Telephone Borrowers.

OMB Control Number: 0572-0088.

Summary of Collection: The Rural Electrification (RE) Act of 1936, as amended, authorizes and empowers the Administrator of Rural Utilities Service (RUS) to make loans in the several States and Territories of the United States for rural electrification and for the purpose of furnishing and improving electric and telephone service in rural areas and to assist electric borrowers to implement demand side management, energy conservation programs, and on-grid and off-grid renewable energy systems. 7 CFR 1786, subparts E, F and G provides the authorization for the reporting burden in section 306(C) of the RE Act.

Need and Use of the Information: The information will be collected from borrowers requesting to prepay their notes and to determine that the borrower is qualified to prepay under the authorizing statues. The overall goal of subparts E and F is to allow RUS borrowers to prepay their RUS loan and the overall goal of subpart G is to refinance.

Description of Respondents: Business or other for-profit; Not-for-profit institutions.

Number of Respondents: 28.

Frequency of Responses: Reporting: On occasion.

Total Burden Hours: 62.

Rural Housing Service

Title: 7 CFR 1951-F, Analyzing Credit Needs and Graduation of Borrower

OMB Control Number: 0575-0093

Summary of Collection: Section 333 of the Consolidated Farm and Rural Development Act and section 502 of the Housing Act of 1949, require the Rural Housing Service (RHS), the Rural Business-Cooperative Service (RBS), and the Farm Service Agency (FSA) to graduate their direct loan borrowers to other credit when they are able to do so. Graduation is an integral part of Agency lending, as Government loans beyond a borrower's need for subsidized rates of non-market terms. The notes, security instruments, or loan agreements of most borrowers require borrowers to refinance their Agency loans when other credit becomes available at reasonable rates and terms. If the borrower finds other credit is not available at reasonable rates and terms, the Agency will continue to review the borrower for possible graduation at periodic intervals. Information will be collected from the borrowers concerning their loans.

Needs and Use of the Information: The information submitted by FSA, RBS, or RHS borrowers to Agency offices is used to graduate direct borrowers to private credit with or without the use of Agency loan guarantees. The data collected will include financial information such as income; farm operating expenses, asset values, and liabilities.

Description of Respondents: Individuals or households; Business or other for-profit; Farms; State, local or Tribal government.

Number of Respondents: 31,975.

Frequency of Responses: Reporting: Quarterly.

Total Burden Hours: 74,419.

Rural Housing Service

Title: 7 CFR 1965-E, “Prepayment and Displacement Prevention of Multiple Family Housing Loans.”

OMB Control Number: 0575-0155.

Summary of Collection: The Housing and Community Development Act of 1987 required that Rural Rental Housing borrowers wishing to prepay their loans, must first decide if the housing continues to serve low- and moderate-income tenants, if so, Rural Development (RD) must offer the borrower a fair incentive to prepay the loan. If the borrower rejects the incentive, the housing must be offered for sale to a nonprofit organization or public agencies. Only if no nonprofit organization or public agencies can be found to purchase the project at the market value can the loan be prepaid.

Need and Use of the Information: When a request to prepay a rural rental-housing loan is received, RD will collect information to determine the need for the housing to remain in the low-income program. RD will also determine the extent to any incentive offer to keep the housing within the RD program. If RD does not have current and appropriate information, the decision to accept or reject the prepayment request and the amount of an incentive offer would be made inappropriately.

Description of Respondents: Not-for-profit institutions; Business or other for-profit; Individuals or households; Farms; State, local or Tribal government.

Number of Respondents: 800.

Frequency of Responses: Recordkeeping; Reporting: On occasion.

Total Burden Hours: 687.

Agricultural Marketing Service

Title: Livestock Mandatory Reporting Act of 1999.

OMB Control Number: 0581-0186.

Summary of Collection: The Livestock Mandatory Reporting Act of 1999 mandates the reporting of information on prices and quantities of livestock products by packer processing plants meeting certain criteria, including size as measured by annual slaughter. The information is necessary for the proper performance of the functions of Agriculture Marketing Service. USDA's market news provides all market participants, including producers, with the information necessary to make intelligent and informed marketing decisions.

Need and Use of the Information: The information collected and recordkeeping requirements are essential to establishing and implementing a mandatory program of livestock and livestock products reporting. The information is reported up to three times daily and once weekly and is only available directly from those entities required to report under the Act.

Description of Respondents: Business or other for-profit.

Number of Respondents: 119.

Frequency of Response: Reporting; Weekly; Other (Daily).

Total Burden Hours: 24,429.

Rural Utilities Service

Title: Request for Release of Lien and/or Approval of Sale.

OMB Control Number: 0572-0041.

Summary of Collection: The Rural Utilities Service (RUS) is a credit agency of the U.S. Department of Agriculture (USDA). It makes mortgage loans and loan guarantees to finance electric, telecommunications, water and waste facilities in rural areas. RUS manages loan programs in accordance with the Rural Electrification Act of 1936, 7 U.S.C. 901 et seq., as amended (RE Act). A 1949 amendment to the RE Act established the telephone program in RUS with the purpose of making loans to furnish and improve rural telephone service. Section 201 of the RE Act provides that loans shall not be made unless RUS finds and certifies that the security for the loan is reasonably adequate and that the loan will be repaid within the time agreed. In addition to providing loans and loan guarantees, one of RUS' main objectives is to safeguard loan security until the loan is repaid.

Need and Use of the Information: A borrower's assets provide the security for a Government loan. The selling of assets reduces the security and increases the risk of loss to the Government. RUS Form 793 allows the telecommunication program borrower to seek agency permission to sell some of its assets. The form collects detailed information regarding the proposed sale of a portion of the borrower's system. RUS telephone borrowers fill out the form to request RUS approval in order to sell capital assets. Specifics to the sale of capital assets, including the use of Form 793 and submission of supporting documentation, are covered in REA Bulletin 415-1, “Sale of Property by Telephone Borrowers.”

If the information in Form 793 is not collected when capital assets are sold, the capital assets securing the Government's loans could be liquidated and the Government's security either eliminated entirely or diluted to an undesirable level. This increases the risk of loss to the Government in the case of a default.

Description: Business or other for-profit; Not-for-profit institutions.

Number of Respondents: 75.

Frequency of Response: Reporting: On occasion.

Total Burden Hours: 206.

Rural Utilities Service

Title: Request for Release of Lien and/or Approval of Sale.

OMB Control Number: 0572-0041.

Summary of Collection: The Rural Utilities Service (RUS) is a credit agency of the U.S. Department of Agriculture (USDA) that makes mortgage loans and loan guarantees to finance electric, telecommunications, and water and waste facilities in rural areas. RUS manages loan programs in accordance with the Rural Electrification Act (RE Act) of 1936, 7 U.S.C. 901 et seq., as amended (RE Act). A 1949 amendment to the RE Act established the telephone program in RUS with the purpose of making loans to furnish and improve rural telephone service. Section 201 of the RE Act provides that loans shall not be made unless RUS finds and certifies that the security for the loan is reasonably adequate and that the loan will be repaid within the time agreed. In addition to providing loans and loan guarantees, one of RUS's main objectives is to safeguard loan security until the loan is repaid.

Need and Use of the Information: A borrower's assets provide the security for a Government loan. The selling of assets reduces the security and increases the risk of loss to the Government. A borrower seeking permission to sell some of its assets uses RUS Form 793. The form contains detailed information regarding the proposed sale. If the information in Form 793 is not collected when capital assets are sold, the capital assets securing the Government's loans could be liquidated and the Government's security either eliminated entirely or diluted to an undesirable level. This increases the risk of loss to the Government in the case of a default.

Description of Respondents: Not-for-profit institutions; State, Local or Tribal government.

Number of Respondents: 75.

Frequency of Responses: Reporting: On occasion.

Total Burden Hours: 206.

Rural Housing Service

Title: 7 CFR Part 1924-A, Planning and Performing Construction and other Development.

OMB Control Number: 0575-0042.

Summary of Collection: The Rural Housing Service (RHS) is the credit agency for rural housing and community development within the Rural Development mission area of the United States Department of Agriculture. RHS offers a supervised credit program to build modest housing and essential community facilities in rural areas. Section 501 of Title V of the Housing Act of 1949, authorizes the Secretary of Agriculture to extend financial assistance to construct, improve, alter, repair, replace, or rehabilitate dwellings, farm buildings and/or related facilities to provide decent, safe sanitary living conditions and adequate farm building and other structures in rural areas.

Need and Use of the Information: RHS provides several forms to assist in the collection and submission of information. The information will be used to determine whether a loan/grant can be approved; to ensure that RHS has adequate security for the loans financed; to monitor compliance with the terms and conditions of the agency loan/grant and to monitor the prudent use of Federal funds. If the information is not collected and submitted, RHS would have no control over the type and quality of construction and development work planned and performed with Federal funds.

Description of Respondents: Individuals or households; Business or other for-profit; Not-for-profit institutions; Farms.

Number of Respondents: 25,340.

Frequency of Responses: Recordkeeping; Report: On occasion.

Total Burden Hours: 94,924.

Sondra Blakey,
Departmental Information Collection Clearance Officer.

[FR Doc. 03-21640 Filed 8-22-03; 8:45 am]

BILLING CODE 3410-01-M